INTERNATIONAL TRADE COMMISSION

[USITC SE-10-013]

Government in the Sunshine Act Meeting Notice

Agency Holding the Meeting: States International Trade Commission.

Time and Date: May 3, 2010 at 11 a.m.

Place: Room 101, 500 E Street, SW., Washington, DC 20436, Telephone: (202) 205-2000.

Status: Open to the public.

Matters To Be Considered: 1. Agenda for future meetings: none.

2. Minutes.

3. Ratification List.

4. Inv. No. 731-TA-1159 (Final) (Certain Oil Country Tubular Goods from China)—briefing and vote. (The Commission is currently scheduled to transmit its determination and Commissioners' opinions to the Secretary of Commerce on or before May 17, 2010.)

5. Outstanding action jackets: none.

In accordance with Commission policy, subject matter listed above, not disposed of at the scheduled meeting, may be carried over to the agenda of the following meeting.

By order of the Commission.
Issued: April 26, 2010.
William R. Bishop,
Hearings and Meetings Coordinator.

[FR Doc. 2010-10070 Filed 4-27-10; 11:15 am]

BILLING CODE 7020-02-P